INTERNATIONAL TRADE COMMISSION

Certain Knitted Footwear, DN 3580; Notice of Receipt of Complaint; Solicitation of Comments Relating to the Public Interest; Correction

AGENCY: U.S. International Trade Commission.

ACTION: Notice; correction.

SUMMARY: Correction is made to the date of receipt of complaint.

SUPPLEMENTARY INFORMATION:

Correction

In the Federal Register of December 15, 2021 (86 FR 71281) in FR Doc. 2021-27070, under SUPPLEMENTARY INFORMATION, the date of the receipt of complaint should read: December 8, 2021.

Issued: December 15, 2021.
Lisa Barton,
Secretary to the Commission.

[FR Doc. 2021-27534 Filed 12-20-21; 8:45 am]

BILLING CODE 7020-02-P